DEPARTMENT OF ENERGY

Basic Energy Sciences Advisory Committee; Meeting

AGENCY: Office of Science; Department of Energy.

ACTION: Notice of open meeting.

SUMMARY: This notice announces a meeting of the Basic Energy Sciences Advisory Committee (BESAC). The Federal Advisory Committee Act requires that public notice of these meetings be announced in the Federal Register.

DATES:

Thursday, July 11, 2019; 9:00 a.m. to 5:00 p.m.

Friday, July 12, 2019; 9:00 a.m. to 11:30 p.m.

ADDRESSES: Bethesda North Marriott Hotel and Conference Center, 5701 Marinelli Drive, Rockville, MD 20852.

FOR FURTHER INFORMATION CONTACT: Katie Runkles; Office of Basic Energy Sciences; U.S. Department of Energy; Germantown Building, 1000 Independence Avenue SW, Washington, DC 20585; Telephone: (301) 903-6529.

SUPPLEMENTARY INFORMATION:

Purpose of the Board: The purpose of this Board is to make recommendation to DOE-SC with respect to the basic energy sciences research program.

Tentative Agenda

• Call to Order, Introductions, Review of the Agenda

• News from the Office of Science

• News from the Office of Basic Energy Sciences

• Introduction to Plastic Issue and the Role of Recycling & Upcycling

• Chemical Upcycling of Polymer Roundtable Update

• Separation Science National Academy of Science Study

• Exascale Computing Project/Advanced Scientific Computing Advisory Committee Presentation

• Spallation Neutron Source/Proton Power Upgrade/Second Target Station Update

• Neutron Subcommittee Update

• Basic Research Needs for Manufacturing Update

• Liquid Solar Fuels Update

• Scientific User Facilities Committee of Visitors Report

• National Academy of Science Harassment Study

• Public Comments

• Adjourn

Breaks Taken as Appropriate

Public Participation: The meeting is open to the public. If you would like to file a written statement with the Committee, you may do so either before or after the meeting. If you would like to make oral statements regarding any of the items on the agenda, you should contact Katie Runkles at 301-903-6594 (fax) or katie.runkles@science.doe.gov (email). Reasonable provision will be made to include the scheduled oral statements on the agenda. The Chairperson of the Committee will conduct the meeting to facilitate the orderly conduct of business. Public comment will follow the 10-minute rule. Information about the committee can be found at: https://science.osti.gov/bes/besac.

Minutes: The minutes of this meeting will be available for public review and copying within 30 days at the Committee's website: https://science.osti.gov/bes/besac.

Issued in Washington, DC, on June 12, 2019.
LaTanya R. Butler,
Deputy Committee Management Officer.

[FR Doc. 2019-12767 Filed 6-14-19; 8:45 am]

BILLING CODE 6450-01-P